DEPARTMENT OF STATE

[Delegation of Authority No. 145-17]

Foreign Assistance Act of 1961 and Certain Related Acts

By virtue of the authority vested in me by Delegation of Authority No. 145-5 of January 22, 1988, 53 FR 5072, pursuant to Executive Order 12163 of September 29, 1971, 44 FR 56673, as amended, and the Foreign Assistance Act of 1961, as amended, 22 U.S.C. 2151 et seq., State Department Delegation of Authority No. 145-5-2 of April 4, 1991, is hereby amended to read as follows:

By virtue of the authority vested in me by Delegation of Authority No. 145-5 of January 22, 1988, 53 FR 5072, pursuant to Executive Order 12163 of September 29, 1979, 44 FR 56673, as amended, and the Foreign Assistance Act of 1961, as amended, 22 U.S.C. 2151 et seq., I hereby delegate to the Assistant Administrator for Latin America and the Caribbean of the U.S. Agency for International Development (USAID) functions conferred on the President by section 534(b)(3)(A), (B), and (C) for the purpose of including law enforcement agencies and personnel in activities financed by USAID to strengthen the administration of justice. All such activities shall be implemented in coordination with the International Criminal Investigative Training Assistance Program of the U.S. Department of Justice.

This delegation shall be published in the Federal Register.

Dated: June 13, 2000.
Peter F. Romero,
Acting Assistant Secretary, Bureau of Western Hemisphere Affairs, Department of State.

[FR Doc. 00-17081 Filed 7-5-00; 8:45 am]

BILLING CODE 4710-24-P